DEPARTMENT OF TRANSPORTATION

Research and Innovative Technology Administration

[Docket RITA 2013-0002]

Invitation for Public Comment on Draft DOT Research, Development and Technology Strategic Plan (2013-2018)

AGENCY: Research and Innovative Technology Administration, DOT.

ACTION: Notice, request for public comments.

SUMMARY: The U.S. Department of Transportation (U.S. DOT) is providing notice of request for public comment on its draft strategic plan, U.S. Department of Transportation, Research, Development and Technology Strategic Plan FY 2013-2018. The new five-year strategic plan will guide the Department's research, development, and technology activities as required by Section 52013 of Moving Ahead for Progress in the 21st Century Act (MAP-21), Public Law 112-141; July 6, 2012. The new plan places its focus on the U.S. DOT Strategic Goals: Safety; State of Good Repair; Economic Competitiveness; Livable Communities and Environmental Sustainability, along with MAP-21 RD&T critical issues: Promoting safety; reducing congestion and improving mobility; preserving the environment; preserving existing transportation systems; improving the durability and extending the life of transportation infrastructure; and improving goods movement. The Research and Innovative Technology Administration's (RITA's) Office of Research, Development and Technology (RD&T), has coordinated this effort in collaboration with partner modal administrations and offices across the U.S. DOT. As recommended by the Government Accountability Office (GAO) and the National Research Council (NRC), RITA and its partners are seeking public stakeholder comment to ensure RD&T resources are invested wisely to achieve measurable improvements in our Nation's transportation system.

DATES: Written comments should be submitted by April 26, 2013.

ADDRESSES: You may submit comments identified by DOT Docket ID Number RITA 2013-0002 by any of the following methods:

Federal eRulemaking Portal: Go to http://www.regulations.gov. Follow the online instructions for submitting comments.

Mail: Docket Management Facility: U.S. Department of Transportation, 1200 New Jersey Avenue SE., West Building Ground Floor, Room W12-140, Washington, DC 20590-0001.

Hand Delivery or Courier: West Building Ground Floor, Room W12-140, 1200 New Jersey Avenue SE., between 9 a.m. and 5 p.m. ET, Monday through Friday, except Federal holidays.

Fax: 202-493-2251.

Instructions: Identify docket number, RITA 2013-0002, at the beginning of your comments, and send two copies. To receive confirmation that DOT received your comments, include a self-addressed stamped postcard. Internet users may access all comments received by DOT at http://www.regulations.gov. All comments are posted electronically without charge or edits, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: Dr. Kevin Womack, Associate Administrator, Office of Research Development and Technology, Research and Innovative Technology Administration, 1200 New Jersey Avenue Street SE., Washington, DC 20590-0001, telephone (202) 366-5447 or email Kevin.Womack@dot.gov.

SUPPLEMENTARY INFORMATION:

Background

RITA was established as a separate administration within the United States Department of Transportation pursuant to the Norman Y. Mineta Research and Special Programs Improvement Act (Pub. L. 108-426), November 30, 2004, with the mandate to generate greater efficiency and increase the effectiveness of the U.S. DOT's coordination, analysis, and review of research programs, progress and products and in advancing innovative technology.

The new draft strategic plan, U.S. Department of Transportation, Research, Development and Technology Strategic Plan FY 2013-2018, is the Department's second since RITA's inception. The Safe, Accountable, Flexible, Efficient Transportation Equity Act: A Legacy for Users (SAFETEA-LU) enacted in 2005 called for the U.S. DOT to develop a strategic plan to guide its RD&T activities. The previous Plan was published in 2006 and served as a compendium of modal research pursuits at that time. Section 52013 of Moving Ahead for Progress in the 21st Century Act (MAP-21) enacted in 2012 called for the Department to develop a new five-year RD&T strategic plan. The new draft Plan pursues a more cross-modal, collaborative and strategic process to cover the years 2013-2018, and responds to feedback from the National Research Council's review (http://onlinepubs.trb.org/onlinepubs/reports/letterreport_usdotrd&tplan.pdf ), of the earlier plan published in 2006, “Transportation Research, Development and Technology Strategic Plan 2006-2010”, (http://www.rita.dot.gov/sites/default/files/rita_archives/rita_publications/transportation_rd_t_strategic_plan/index.html), and the recommendations of the GAO report published in 2006, “Transportation Research: Opportunities for Improving the Oversight of DOT's Research Programs and User Satisfaction with Transportation Statistics” (http://www.gao.gov/assets/260/251162.html). The U.S. DOT, with leadership from RITA engaged in a collaborative process involving all of the U.S. DOT operating administrations. Two cross-modal bodies participated in the process: the RD&T Planning Team Council (composed of the heads of the operating administrations, the Under Secretary for Policy, and other senior U.S. DOT leaders) and the RD&T Planning Team which includes the Associate Administrators for RD&T in each operating administration. Through this Notice, the U.S. DOT is seeking input from stakeholders including individual citizens, members of the private sector, the academic community, non-governmental organizations, and other interested parties.

Stakeholder's comments should be aligned, if possible, with the U.S. DOT Strategic Goals, the RD&T critical issues as outlined in MAP-21 and combined in the draft Plan as well as listed in the Summary section of this notice. All comments will be considered that are received by the deadline that appears in the DATES section.

Issued in Washington, DC, on March 15, 2013.
Gregory D. Winfree,
Deputy Administrator, Research and Innovative Technology Administration.

[FR Doc. 2013-07024 Filed 3-26-13; 8:45 am]

BILLING CODE 4910-HY-P